DEPARTMENT OF VETERANS AFFAIRS

Veterans' Advisory Committee on Education; Notice of Meeting

The Department of Veterans Affairs gives notice under Public Law 92-463 (Federal Advisory Committee Act) that the Veterans' Advisory Committee on Education will meet on November 12-13, 2008, at the Veterans of Foreign Wars Building, 200 Maryland Avenue, NE., Washington, DC. The November 12 session will be begin at 8 a.m. and end at 4:30 p.m. The November 13 session will begin at 8:30 a.m. and end at 12 noon. The meeting is open to the public.

The purpose of the Committee is to advise the Secretary of Veterans Affairs on the administration of education and training programs for veterans, servicepersons, reservists, and dependents of veterans under Chapters 30, 32, 35, and 36 of title 38, and Chapter 1606 of title 10, United States Code.

The meeting will begin with opening remarks and a summary of recent activities by Mr. James Bombard, Committee Chair. The agenda for the meeting will include an overview of new legislation and an update on VA outreach efforts pertaining to educational assistance benefits and vocational rehabilitation and employment. On November 13, the Committee will review and summarize issues raised during the meeting.

Oral statements will be heard on November 12 at 4 p.m. and on November 13 at 11:30 a.m. Interested persons may submit written statements to the Committee before the meeting, or within 10 days after the meeting, by sending them to Mr. Salminio Garner, Designated Federal Officer, Department of Veterans Affairs, Veterans Benefits Administration (225B), 810 Vermont Avenue, NW., Washington, DC 20420. Any member of the public wishing to attend the meeting should contact Mr. Salminio Garner at (202) 461-9800.

Dated: October 21, 2008.
By Direction of the Secretary.
E. Philip Riggin,
Committee Management Officer.

[FR Doc. E8-25573 Filed 10-24-08; 8:45 am]

BILLING CODE 8320-01-P